DEPARTMENT OF ENERGY

Federal Energy Regulatory Commission

[Docket No. AD21-10-000]

Modernizing Electricity Market Design; Supplemental Notice of Technical Conference on Energy and Ancillary Services in the Evolving Electricity Sector

As first announced in the Notice of Technical Conference issued in this proceeding on July 14, 2021, the Federal Energy Regulatory Commission (Commission) will convene a staff-led technical conference in the above-referenced proceeding on October 12, 2021, from approximately 9:00 a.m. to 5:00 p.m. Eastern time. The conference will be held remotely. Attached to this Supplemental Notice is an agenda for the technical conference, which includes the final conference program and expected speakers. Commissioners may attend and participate in the technical conference.

Discussions at the conference may involve issues raised in proceedings that are currently pending before the Commission. These proceedings include, but are not limited to:

| Docket No.
Tenaska Virginia Partners, L.P | ER10-1626-012.
Tenaska Power Services Co | ER10-1632-018.
Wheelbrator Frackville Energy Company, Inc | ER10-3237-011.
Calpine Vineland Solar, LLC | ER10-2036-011.
Calpine New Jersey Generation, LLC | ER10-2040-010.
Calpine Mid Merit, LLC | ER10-2041-010.
Calpine Mid-Atlantic Generation, LLC | ER10-2043-010.
Zion Energy LLC | ER10-2044-010.
Calpine Bethlehem, LLC | ER10-2051-010.
Bayonne Energy Center, LLC | ER11-3460-012.
TAQA Gen X LLC | ER11-4393-008.
Wheelbrator Baltimore, L.P | ER13-1485-011.
Red Oak Power, LLC | ER14-477-002.
Wheelbrator Falls, Inc | ER14-1777-010.
LQA, LLC | ER16-733-007.
Calpine Mid Merit II, LLC | ER18-1321-003.
Tenaska Pennsylvania Partners, LLC | ER18-1960-003.
California Independent System Operator Corporation | ER21-2455-000.
New York Independent System Operator, Inc | ER21-2460-000.
Midcontinent Independent System Operator, Inc | ER21-2486-000; ER21-2487-000.
PJM Interconnection, L.L.C | ER21-2582-000.
Midcontinent Independent System Operator, Inc | ER21-2620-000.
Southwest Power Pool, Inc | ER21-2676-000.
Midcontinent Independent System Operator, Inc | ER21-2677-000.
Midcontinent Independent System Operator, Inc | ER21-2720-000.
California Independent System Operator Corporation | ER21-2779-000.
Midcontinent Independent System Operator, Inc | ER21-2788-000.
Midcontinent Independent System Operator, Inc | ER21-2797-000.
Midcontinent Independent System Operator, Inc | ER21-2801-000.
American Electric Power Service Corporation v. Midcontinent Independent System Operator, Inc., Southwest Power Pool, Inc | EL17-89-000.
PJM Interconnection, L.L.C | EL19-58, et al.; ER19-1486, et al.
City of Prescott, Arkansas v. Southwestern Electric Power Company, Midcontinent Independent System Operator, Inc | EL19-60-000.
PJM Interconnection, L.L.C | EL21-78-000, et al.
Basin Electric Power Cooperative and North Iowa Municipal Cooperative Association v. Southwest Power Pool. Inc | EL21-90-000.

The conference will be open for the public to attend remotely. There is no fee for attendance. Information on this technical conference, including a link to the webcast, will be posted on the conference's event page on the Commission's website (https://www.ferc.gov/news-events/events/technical-conference-regarding-energy-and-ancillary-services-markets-10122021) prior to the event. The conference will be transcribed. Transcripts will be available for a fee from Ace Reporting (202-347-3700).

Commission conferences are accessible under section 508 of the Rehabilitation Act of 1973. For accessibility accommodations, please send an email to accessibility@ferc.gov or call toll free 1-866-208-3372 (voice) or 202-208-8659 (TTY), or send a fax to 202-208-2106 with the required accommodations.

For more information about this technical conference, please contact Emma Nicholson at emma.nicholson@ferc.gov or (202) 502-8741, or Alexander Smith at alexander.smith@ferc.gov or (202) 502-6601. For legal information, please contact Adam Eldean at adam.eldean@ferc.gov or (202) 502-8047. For information related to logistics, please contact Sarah McKinley at sarah.mckinley@ferc.gov or (202) 502-8368. This notice is issued and published in accordance with 18 CFR 2.1.

Dated: October 1, 2021.
Kimberly D. Bose,
Secretary.

[FR Doc. 2021-21946 Filed 10-6-21; 8:45 am]

BILLING CODE 6717-01-P